DEPARTMENT OF JUSTICE

Office of Community Oriented Policing Services; Agency Information Collection Activities: Proposed Collection; Comments Requested

ACTION: 60-day emergency notice of information collection under review: reinstatement, with change, of a previously approved collection for which approval has expired; COPS Making Officer Redeployment Effective (“MORE”) Grant Program Application Kit.

The Department of Justice Office of Community Policing Services has submitted the following information collection request to the Office of Management and Budget (OMB) for review and clearance in accordance with emergency review procedures of the Paperwork Reduction Act of 1995. OMB approval has been requested by March 14, 2003. The proposed information collection is published to obtain comments from the public and affected agencies. If granted, the emergency approval is only valid for 180 days. Comments should be directed to OMB, Office of Information Regulation Affairs, Attention: Department of Justice Desk Officer (202) 395-6466, Washington, DC 20503.

During the first 60 days of this same review period, a regular review of this information collection is also being undertaken. Written comments and/or suggestions regarding additional information, including obtaining a copy of the proposed information collection instrument with instructions, should be directed to Gretchen DePasquale, 202-305-7780, Office of Community Oriented Policing Services, 1100 Vermont Avenue, NW., Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Reinstatement, with change, of a previously approved collection for which approval has expired.

(2) Title of the Form/Collection: COPS Making Officer Redeployment Effective (“MORE”) Grant Program Application Kit.

(3) Agency form number, if any, and the applicable component of the Department of Justice sponsoring the collection: Department of Justice, Office of Community Oriented Policing Services (COPS) Form Number: N/A.

(4) Affected public who will be asked or required to respond, as well as a brief abstract: Primary State, local and Tribal law enforcement agencies. Other: University police, housing authorities, and school districts. Abstract: The information collected will be used by the COPS Office to determine whether law enforcement agencies are eligible for one year grants specifically targeted to provide funding for technology and equipment. The grants are meant to enhance law enforcement IT infrastructure and community policing efforts in these communities.

(5) An estimate of the total number of respondents and the amount of time estimated for an average respondent to respond: There will be an estimated 2,500 responses per year. The estimated amount of time required for the average respondent to respond is 26 hours.

(6) An estimate of the total public burden (in hours) associated with the collection: The total number of annual burden hours associated with this collection is 65,000.

If additional information is required contact: Brenda Dyer, Deputy Clearance Officer, Information Management and Security Staff, Justice Management Division, United States Department of Justice, 601 D Street NW., Patrick Henry Building, Suite 1600, NW., Washington, DC 20530.

Dated: February 27, 2003.
Brenda Dyer,
Deputy Clearance Officer, United States Department of Justice.

[FR Doc. 03-5523 Filed 3-6-03; 8:45 am]

BILLING CODE 4410-AT-M